DEPARTMENT OF HEALTH AND HUMAN SERVICES

Administration for Children and Families

Proposed Information Collection Activity; Comment Request

Proposed Projects

Title: Form ACF-IV-E-1: Title IV-E Foster Care and Adoption Assistance Financial Report.

OMB No.: 0970-0205.

Description: State agencies administer the Foster Care and Adoption Assistance Programs under Title IV-E of the Social Security Act. The Administration for Children and Families provides Federal funding at the rate of 50 percent for most of the administrative costs and at other rates for other specific categories of costs as detailed in Federal statute and regulations. This form is submitted quarterly by each State to estimate the funding needs for the upcoming fiscal quarter and to report expenditures for the fiscal quarter just ended. This form is also used to provide annual budget projections from each State. The information collected in this report is used by this agency to calculate quarterly Federal grant awards and to enable this agency to submit budget requests to Congress through the Department and to enable oversight of the financial management of the programs.

Respondents: State agencies (including the District of Columbia and Puerto Rico) administering the Foster Care and Adoption Assistance programs under Title IV-E of the Social Security Act.

Annual Burden Estimates
Instrument | Number of respondents | Number of responses per respondent | Average burden hours per response | Total burden hours
Form ACF-IV-E-1 | 52 | 4 | 17 | 3,536

Estimated Total Annual Burden Hours: 3,536.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 22, 2006.
Robert Sargis,
Reports Clearance Officer.

[FR Doc. 06-9939 Filed 12-29-06; 8:45 am]

BILLING CODE 4184-01-M